DELAWARE RIVER BASIN COMMISSION

Notice of Commission Meeting and Public Hearing

Notice is hereby given that the Delaware River Basin Commission will hold an informal conference followed by a public hearing on Wednesday, October 27, 2004. The hearing will be part of the Commission's regular business meeting. Both the conference session and business meeting are open to the public and will be held at the National Constitution Center, Kirby Auditorium, 525 Arch Street, Independence Mall in Philadelphia, Pennsylvania.

The conference among the commissioners and staff will begin at 9:30 a.m. Topics of discussion will include: an update on the Water Resources Plan for the Delaware River Basin (“Basin Plan”) including a summary of the Watershed Summit of September 13-15 and the transition from planning to implementation; a summary and report on informational meetings on a proposed resolution to amend the Water Quality Regulations, Water Code and Comprehensive Plan to designate the Lower Delaware River as Special Protection Waters; a proposal to amend the Commission's fee schedule for the review of projects under Section 3.8 and Article 10 of the Delaware River Basin Compact by the addition of a late application fee; and a presentation on the structural reorganization of the Delaware Estuary Program.

The business meeting will begin at 11 a.m. The portion of the meeting running from 11 a.m. until 12:15 p.m. will consist of the public hearing on a proposal to amend the Water Quality Regulations, Water Code and Comprehensive Plan by establishing pollutant minimization plan requirements for point and non-point source discharges following issuance of a TMDL or assimilative capacity determination.

The business meeting will resume at 1:30 p.m. Public hearings on the following project review applications will be held during this afternoon portion of the meeting:

1. Cabot Corporation D-70-72-2. An application to upgrade an industrial wastewater treatment plant (IWTP) and implement manufacturing operation improvements necessary to meet water quality objectives in Swamp Creek, a tributary of Perkiomen Creek in the Schuylkill River Watershed. The applicant produces primary nonferrous metals and alloys plus inorganic chemicals at its Boyertown Facility, which is located off Swamp Creek Road and straddles the borders of Douglass Township, Montgomery County and Colebrookdale Township, Berks County, both in Pennsylvania. No expansion of the 0.222 million gallon per day (mgd) IWTP is proposed. The plant effluent, along with storm water, cooling water and water supply treatment wastewater, will continue to be discharged to Swamp Creek via the existing outfall. (NAR'd as Cabot Supermetals D-70-72 (REVISION).)

2. New Jersey-American Water Company D-90-89 CP-3. An application for the renewal of a ground water withdrawal project to increase withdrawal from 15 mg/30 days to 28.5 mg/30 days to supply the applicant's public water supply system from existing Wells Nos. 1 and 2 in the Kittatinny Limestone formation. The project is located in the Pophandusing Brook Watershed, in White Township, Warren County, New Jersey. (NAR'd as D-90-89 CP RENEWAL 2.)

3. Waltz Golf Farm, Inc. D-92-49-2. An application for the renewal of a surface water withdrawal project to continue withdrawal of 9.0 million gallons per 30 days (mg/30 days) to supply the applicant's golf course from an existing man-made pond on Landis Creek in the Lodal Creek Watershed. The project is located in Limerick Township, Montgomery County, Pennsylvania and is located in the Southeastern Pennsylvania Ground Water Protected Area.

4. Air Products and Chemicals D-93-48-2. An application for the renewal of a ground water withdrawal project to continue withdrawal of 8.7 million gallons (mg)/30 days to supply the applicant's manufacturing facility from existing Wells Nos. 2 and 4 in the Lehigh River Watershed. The project is located in Glendon Borough, Northampton County, Pennsylvania. (NAR'd as D-93-48 Renewal.)

5. Blue Ridge Real Estate Company D-93-57-2. An application for the renewal of a surface water withdrawal project to continue withdrawal of 100 million gallons per 30 days (mg/30 days) from an existing intake in Tobyhanna Creek to supply the applicant's snowmaking operations at the Jack Frost Ski Area. The project is located in Kidder Township, Carbon County, Pennsylvania.

6. Buckingham Township D-2003-13 CP-1. An application for approval of a ground water withdrawal project to supply up to 5.18 mg/30 days to the applicant's public water supply distribution system from new Wells Nos. F-4 and F-5, and to increase the combined withdrawal from all wells from 33.2 mg/30 days to 37.5 mg/30 days. New Wells Nos. F-4 and F-5 are located in the Brunswick Formation. The project is located in the Mill Creek Watershed in Buckingham Township, Bucks County, Pennsylvania and is located in the Southeastern Pennsylvania Ground Water Protected Area. (NAR'd as D-2003-13 CP).

7. Buckingham Township D-2004-15 CP-1. An application to expand the Township's Furlong Sewage Treatment Plant (STP) from 116,825 gallons per day (gpd) to treat an average flow of 257,312 gpd via additional lagoon treatment systems. The project will continue to provide secondary treatment of flow from residential and commercial development in Buckingham Township, Bucks County, Pennsylvania. The STP is located just east of State Route 263 in Buckingham Township. Additional effluent spray fields and drip irrigation zones are proposed. The project will continue to provide long-term effluent storage and utilize Mill Creek in the Neshaminy Creek Watershed as an alternate discharge point. (NAR'd as D-2004-15 CP).

8. City of New York Department of Environmental Protection D-2004-28 CP-1. An application to modify a sewage treatment plant (STP) located at 4 Neversink Drive in the City of Port Jervis, Orange County, New York. The STP has a capacity of 5 million gallons per day and serves the City of Port Jervis. The existing plant provides secondary treatment, and discharges to the Neversink River, upstream from DRBC Special Protection Waters and the Delaware Water Gap National Recreation Area. The proposed modification, which constitutes Phase I of a multi-phase improvement project, involves the demolition of three Imhoff tanks and construction of two sedimentation basins, plus minor facility upgrades. No increase in STP capacity is proposed.

9. Exelon Generation Company, LLC D-69-210 CP Final (Revision 12). An application for temporary approval to modify the Operating Plan of the Limerick Generating Station (LGS), a nuclear-powered electric generating station located in Limerick Township, Montgomery County, Pennsylvania, regarding surface water withdrawal restrictions related to ambient water temperature in the Schuylkill River. The applicant proposes to demonstrate, under controlled conditions, that the withdrawal of Schuylkill River water can continue without adverse impact when the background water temperature exceeds 59 °F, the maximum temperature at which withdrawals can be made under the current docket. In July 2004, an amended application and draft operating and monitoring plan were submitted after discussion with the Commission staff, the State of Pennsylvania and stakeholders. A revised draft operating and monitoring plan was submitted on October 1, 2004 and is attached to the draft docket. The amended application provides for the following:

• A multi-year demonstration period during the remainder of the 2004 season through the 2007 season associated with flow and temperature restrictions in accordance with an approved operating and monitoring plan.

• Withdrawals not to exceed 24 million gallons per day (mgd) of LGS' consumptive cooling water needs during times when the Schuylkill River 24-hour average river ambient water temperature exceeds 59 °F and when the 24-hour average river flow is at or below 1,791 cubic feet per second (cfs) (but above 560 cfs) at the gaging station at Pottstown.

• Withdrawals of LGS' entire consumptive cooling water needs during times when the Schuylkill River 24-hour average river ambient water temperature exceeds 59 °F and when the 24-hour average river flow exceeds 1,791 cfs.

• Maintenance of minimum flow of at least 10 cfs in the East Branch Perkiomen Creek at all times in accordance with the draft Demonstration Operation and Monitoring Plan for the Joint Limerick Generating Station Water Supply Modification Demonstration and Wadesville Mine Pool Withdrawal & Stream Flow Augmentation Project that was submitted by Exelon.

• Development of recreational flow management plans to increase flows in the East Branch Perkiomen Creek above 10 cfs to support specific short-term recreational events.

• Establishment of a restoration and monitoring fund based on $0.06/1,000 gallons of makeup water that is not required for LGS consumptive cooling water needs due to lifting the 59 °F temperature requirement. Flows pumped to the EBPC during periods when the 59 °F restriction would have been in effect, but not used for consumptive cooling water needs at the LGS, will be credited against this fund.

• Working with stakeholders regarding the design and implementation of the demonstration and restoration projects during 2005 and future years.

• Test periods with no augmentation/makeup waters supplied for LGS consumptive cooling water needs (beyond the minimum 10 cfs flows in the East Branch Perkiomen Creek).

• The continuation of the Wadesville Mine Pool withdrawal and Stream Flow Augmentation Demonstration Project that was approved under Docket No. D-69-210 CP (Final) (Revision 11) and extended for one year by Commission Resolution No. 2003-25 adopted December 3, 2003.

In addition to the items listed above, the afternoon portion of the Commission's business meeting will include the public hearing on a resolution to amend the Water Quality Regulations, Water Code and Comprehensive Plan to designate the Lower Delaware River as Special Protection Waters. In addition, the meeting will include: Adoption of the Minutes of the September 1, 2004 business meeting; announcements; a report on Basin hydrologic conditions; a report by the executive director; a report by the Commission's general counsel; and an opportunity for public dialogue.

Draft dockets and materials relating to the other items scheduled for public hearing on October 27, 2004 will be posted on the Commission's Web site, http://www.drbc.net, where they can be accessed through the Home Page or the Notice of Commission Meeting and Public Hearing. Additional documents relating to the dockets and other items may be examined at the Commission's offices. Please contact William Muszynski at 609-883-9500 ext. 221 with any docket-related questions.

Please contact the office of the Commission secretary, Pamela M. Bush, by phoning 609-883-9500 ext. 224, if you wish to offer comment on any of the items scheduled for public hearing.

Individuals in need of an accommodation as provided for in the Americans with Disabilities Act who wish to attend the informational meeting, conference session or hearings should contact the office of the Commission secretary at 609-883-9500 ext. 224 or through the Telecommunications Relay Services (TRS) at 711, to discuss how the Commission may accommodate your needs.

Dated: October 5, 2004.
Pamela M. Bush,
Commission Secretary.

[FR Doc. 04-22908 Filed 10-12-04; 8:45 am]

BILLING CODE 6360-01-P